DEPARTMENT OF THE INTERIOR

National Park Service

[NPS-MWR-CUVA-16772; PPMWMWROW2/PMP00UP05.YP0000]

Notice of Availability of the Final White-Tailed Deer Management Plan, Environmental Impact Statement, Cuyahoga Valley National Park, Ohio

AGENCY: National Park Service, Interior.

ACTION: Notice of availability.

SUMMARY: The National Park Service (NPS) announces the availability of the Final White-Tailed Deer Management Plan/Environmental Impact Statement (Plan/EIS), Cuyahoga Valley National Park (Park), Ohio.

DATES: The NPS will execute a Record of Decision (ROD) no sooner than 30 days from the date of publication of the Notice of Availability of the Final Plan/EIS in the Federal Register by the U.S. Environmental Protection Agency.

ADDRESSES: A limited number of hard-copies of the Final Plan/EIS may be picked up in-person or may be obtained by making a request in writing to Cuyahoga Valley National Park, 15610 Vaughn Road, Brecksville, Ohio 44141. The document is also available on the internet at the NPS Planning, Environment, and Public Comment Web site at: http://parkplanning.nps.gov/CUVAdeerplan.

FOR FURTHER INFORMATION CONTACT: Chief of the Resource Management Division, Lisa Petit, at the address above, or by telephone at (440) 546-5970.

SUPPLEMENTARY INFORMATION: The Final Plan/EIS responds to, and incorporates as appropriate, agency and public comments received on the Draft Plan/EIS, which was available for public and agency review and comment from July 26 to September 24, 2013. Two public meetings were held during the 60-day comment period to gather input on the Draft Plan/EIS. Sixty eight pieces of correspondence were received during the public review period. Agency and public comments and NPS responses are provided in Appendix F of the Final Plan/EIS.

The Final Plan/EIS considers four alternatives for the management of white-tailed deer at the Park. Under Alternative A (No Action), existing management actions would continue, including deer and vegetation monitoring, data management, and research. No new actions would occur to reduce the effects of deer overbrowsing. Alternative B (Combined Non-lethal Actions) would include all actions described under Alternative A and would incorporate a combination of nonlethal actions, including the construction of large-scale deer exclosures (fencing) for the purposes of forest regeneration. Nonsurgical reproductive control of does would be used to restrict population growth when this technology meets certain criteria. Alternative C (Lethal Actions) would also include all actions described under Alternative A, and would add lethal deer management actions to reduce the herd size, including direct reduction of the deer herd by sharpshooting with firearms or by implementing capture and euthanasia of individual deer in certain circumstances where sharpshooting would not be appropriate.

Alternative D (Combined Lethal and Non-lethal Actions) is the NPS preferred alternative. Alternative D would include all actions described under Alternative A, and it would also incorporate a combination of lethal and nonlethal actions from Alternatives B and C. Sharpshooting and limited capture/euthanasia would be used initially to quickly reduce deer herd numbers. Then, population maintenance could be conducted either by nonsurgical reproductive control methods, if certain criteria are met, or by sharpshooting. Both of these population maintenance methods are retained as options in order to maintain maximum flexibility for future management.

Dated: September 22, 2014.
Patricia S. Trap,
Acting Regional Director, Midwest Region.

[FR Doc. 2014-29164 Filed 12-11-14; 8:45 am]

BILLING CODE 4310-MA-P